DEPARTMENT OF THE INTERIOR

National Park Service

[NPS-WASO-NAGPRA-NPS0035612; PPWOCRADN0-PCU00RP14.R50000]

Notice of Inventory Completion: Indiana University of Pennsylvania, Indiana, PA

AGENCY: National Park Service, Interior.

ACTION: Notice.

SUMMARY: In accordance with the Native American Graves Protection and Repatriation Act (NAGPRA), Indiana University of Pennsylvania (IUP) has completed an inventory of human remains and has determined that there is a cultural affiliation between the human remains and Indian Tribes or Native Hawaiian organizations in this notice. The human remains were removed from western Pennsylvania.

DATES: Repatriation of the human remains in this notice may occur on or after May 17, 2023.

ADDRESSES: Andrea Palmiotto, Indiana University of Pennsylvania, 1011 South Street, Indiana, PA 15705, telephone (724) 357-2841, email apalmiot@iup.edu.

SUPPLEMENTARY INFORMATION: This notice is published as part of the National Park Service's administrative responsibilities under NAGPRA. The determinations in this notice are the sole responsibility of IUP. The National Park Service is not responsible for the determinations in this notice. Additional information on the determinations in this notice, including the results of consultation, can be found in the inventory or related records held by IUP.

Description

Human remains representing, at minimum, one individual were removed from Allegheny County, PA. The human remains were examined by the Allegheny County Coroner in 1976, and they were donated to Indiana University of Pennsylvania at an unknown date. The human remains consist of a partial cranium, mandible, vertebra, and right femur. No known individual was identified. No associated funerary objects are present.

Human remains representing, at minimum, one individual were removed from a location in western Pennsylvania. At an unknown date, an avocational collection known as the Cochran Collection was donated to IUP and, subsequently, the collection was found to contain these human remains. The human remains consist of a manual phalanx (finger bone). No known individual was identified. No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: anthropological, biological, geographical, historical, and other relevant information.

Determinations

Pursuant to NAGPRA and its implementing regulations, and after consultation with the appropriate Indian Tribes and Native Hawaiian organizations, the IUP has determined that:

• The human remains described in this notice represent the physical remains of two individuals of Native American ancestry.

• There is a relationship of shared group identity that can be reasonably traced between the human remains described in this notice and the Seneca Nation of Indians.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after May 17, 2023. If competing requests for repatriation are received, IUP must determine the most appropriate requestor prior to repatriation. Requests for joint repatriation of the human remains are considered a single request and not competing requests. IUP is responsible for sending a copy of this notice to the Indian Tribe identified in this notice.

Authority: Native American Graves Protection and Repatriation Act, 25 U.S.C. 3003, and the implementing regulations, 43 CFR 10.9, 10.10, and 10.14.

Dated: March 29, 2023.
Melanie O'Brien,
Manager, National NAGPRA Program.

[FR Doc. 2023-08052 Filed 4-14-23; 8:45 am]

BILLING CODE 4312-52-P